DEPARTMENT OF DEFENSE

Department of the Army, Corps of Engineers

Notice of Availability for the Final Environmental Impact Report/ Environmental Impact Statement for the Carryover Storage and San Vicente Dam Raise Project (CSP), San Diego County, CA

AGENCY: Department of the Army, U.S. Army Corps of Engineers, DoD.

ACTION: Notice of availability.

SUMMARY: Pursuant to section 102(2)(c) of the National Environmental Policy Act (NEPA) of 1969 (as amended), the U.S. Army Corps of Engineers, Los Angeles District (Corps) Regulatory Branch, in coordination with the San Diego County Water Authority (Water Authority), has completed a Final Environmental Impact Report/Environmental Impact Statement (EIR/EIS) for the Carryover Storage and San Vicente Dam Raise Project (CSP). Four alternatives were co-equally analyzed in the EIR/EIS, including Alternative 1 (100,000 acre-feet of carryover storage at San Vicente), Alternative 2 (100,000 acre-feet of carryover storage at Moosa Canyon), Alternative 3 (50,000 acre-feet of carryover storage at San Vicente and 50,000 acre-feet of carryover storage at Moosa Canyon) and the No Action Alternative, as required by NEPA. As the project proponent and applicant, the Water Authority selected Alternative 1 as its preferred alternative. The proposed CSP requires authorization pursuant to section 404 of the Clean Water Act for approximately 0.34 acre of fill placement in jurisdictional waters of the United States, including wetlands, to construct an expansion of the existing San Vicente Dam to store approximately 100,000 acre-feet of carryover storage water.

FOR FURTHER INFORMATION CONTACT: Questions or comments concerning the Final EIR/EIS should be directed to Mr. Robert R. Smith, Jr., Regulatory Project Manager/Team Leader San Diego Field Office, U.S. Army Corps of Engineers, Los Angeles District, 16885 W. Bernardo Drive, Suite 300A, San Diego, CA 92127, (858) 674-6784. Alternatively, comments can be submitted electronically to: robert.r.smith@usace.army.mil.

SUPPLEMENTARY INFORMATION: Paper copies of the Final EIR/EIS will be made available to the public for review at the following: the San Diego County Water Authority offices at 4677 Overland Avenue, San Diego, CA 92123; the Lakeside Public Library, 9839 Vine Street, Lakeside, CA 92040; and the Valley Center Public Library, 29200 Cole Grade Road, Valley Center, CA 92082. A CD copy of the document may be obtained by contacting Ms. Kelley Gage at the San Diego County Water Authority at the address above, or by e-mailing Ms. Gage at kgage@sdcwa.org. A copy of the Final EIR/EIS is also available online at the Water Authority's Web site: http://www.sdcwa.org/. Interested parties are invited to provide their comments on the Final EIR/EIS, which will become a part of the official record and will be considered in the final decision. Written comments must be received on or before May 19, 2008 and should be submitted to the contact listed above. A Record of Decision (ROD) will be issued by the Corps no earlier than 30 days after the Notice of Receipt for the Final EIR/EIS is published in the Federal Register.

Dated: April 8, 2008.
Mark Durham,
Acting Chief, Regulatory Branch.

[FR Doc. E8-8282 Filed 4-17-08; 8:45 am]

BILLING CODE 3710-KF-P